NUCLEAR REGULATORY COMMISSION

[Docket Nos. 70-1151, 11004036, 11004358, 11004552, 11004736, 11004752, 11004918, 11005030, 11005042, 11005057, 11005536, 11005908, 11006001, 11006014, 11006040, 11006060, 11006085, 11006217, 11005472, 11006011, 11006216, 11004990, 11005224, 11005639, 11005968, 11006233, 11006332, 11006333, 11006334, 11006403, 11006430, 11006446, 11006453; NRC-2023-0038]

Westinghouse Electric Company, LLC; Order Approving Indirect Transfer of Control of License

AGENCY: Nuclear Regulatory Commission.

ACTION: Indirect transfer of license; order.

SUMMARY: The U.S. Nuclear Regulatory Commission (NRC) issued an Order approving the indirect transfer of several licenses for Westinghouse Electric Company, LLC (Westinghouse). Westinghouse is the holder of special nuclear materials (SNM) license number SNM-1107, which authorizes the possession and use of SNM at the Columbia Fuel Fabrication Facility in Hopkins, South Carolina. Westinghouse is also the holder of several export licenses as noted in the Order. The Order approves the indirect transfer of control of these licenses resulting from the acquisition of Westinghouse's intermediate parent company, Brookfield WEC Holdings Inc., by Watt New Aggregator L.P., in which Brookfield Corporation will hold a controlling 51 percent interest and Cameco Corporation will hold the remaining 49 percent interest. The Order became effective upon issuance.

DATES: The Order was issued on May 15, 2023, and is effective until May 15, 2024.

ADDRESSES: Please refer to Docket ID NRC-2023-0038 when contacting the NRC about the availability of information regarding this document. You may obtain publicly available information related to this document using any of the following methods:

• Federal Rulemaking Website: Go to http://www.regulations.gov and search for Docket ID NRC-2023-0038. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The Order and Safety Evaluation Report is available in ADAMS under Package Accession No. ML23096A266.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: Jenny Tobin, Office of Nuclear Material Safety and Safeguards, U.S. Nuclear Regulatory Commission, Washington, DC 20555-0001, telephone: 301-415-2328; email: Jennifer.Tobin@nrc.gov.

SUPPLEMENTARY INFORMATION: The text of the Order is attached.

Dated: May 16, 2023.
For the Nuclear Regulatory Commission.
Shana R. Helton,
Director, Division of Fuel Management, Office of Nuclear Material Safety and Safeguards.

Attachment—Order Approving the Indirect Transfer of Control of Licenses

UNITED STATES OF AMERICA NUCLEAR REGULATORY COMMISSION

In the Matter of Westinghouse Electric Company, LLC: EA-23-052; Docket Nos. 70-1151, 11004036, 11004358, 11004552, 11004736, 11004752, 11004918, 11005030, 11005042, 11005057, 11005536, 11005908, 11006001, 11006014, 11006040, 11006060, 11006085, 11006217, 11005472, 11006011, 11006216, 11004990, 11005224, 11005639, 11005968, 11006233, 11006332, 11006333, 11006334, 11006403, 11006430, 11006446, 11006453; License Nos. SNM-1107, XCOM1014, XCOM1047, XCOM1072, XCOM1093, XCOM1094, XCOM1102, XCOM1111, XCOM1113, XCOM1116, XCOM1170, XCOM1188, XCOM1219, XCOM1246, XCOM1249, XCOM1252, XCOM1255, XCOM1262, XCOM1298, XSNM3006, XSNM3163, XSNM3264, XSNM3461, XSNM3702, XSNM3769, XSNM3802, XSNM3803, XSNM3804, XSNM3820, XSNM3825, XSNM3829, XSNM3830, XR169, XR176, XR178

Order Approving the Indirect Transfer of Control of Licenses

I

Westinghouse Electric Company, LLC (Westinghouse), is the holder of materials license number SNM-1107, which authorizes the possession and use of special nuclear material (SNM) at the Columbia Fuel Fabrication Facility (CFFF) in Hopkins, South Carolina. Westinghouse is also the holder of export license numbers: XCOM-1014, XCOM-1047, XCOM-1072, XCOM-1093, XCOM-1094, XCOM-1102, XCOM-1111, XCOM-1113, XCOM-1116, XCOM-1170, XCOM-1188, XCOM-1219, XCOM-1246, XCOM1249, XCOM-1252, XCOM-1255, XCOM-1262, XCOM-1298, XR-169, XR-176, XR-178, XSNM-3006, XSNM-3163, XSNM-3264, XSNM-3461, XSNM-3702, XSNM-3769, XSNM-3802, XSNM-3803, XSNM-3804, XSNM-3820, XSNM-3825, XSNM-3829, and XSNM-3830.

II

By letter dated December 20, 2022 (Agencywide Documents Access and Management System [ADAMS] Accession Number ML22354A291), and supplemented by letters dated February 17, 2023 (ADAMS Accession Numbers ML23053A070 and ML23053A074), and February 27, 2023 (ADAMS Accession Number ML23058A448), (collectively, the Application), Westinghouse requested the U.S. Nuclear Regulatory Commission's (NRC) consent to the indirect transfer of control of the licenses listed above. The Application describes the indirect transfer of control of Westinghouse from Brookfield WEC Holdings Inc. (WEC Holdings), one of Westinghouse's intermediate parent companies, to Watt New Aggregator L.P. (Watt), an exempted limited partnership formed under the laws of the Cayman Islands, which is ultimately controlled by Brookfield Corporation (Brookfield), a Canadian company.

Westinghouse is currently a wholly owned subsidiary of WEC Holdings. Upon closing of the transaction, Watt will acquire 100% of Westinghouse. Brookfield will indirectly hold a 51 percent interest in Watt and Watt GP Ltd., a Bermuda company limited by shares, which controls Watt as its general partner. The remaining 49 percent interest in Watt and Watt GP Ltd. will be held by Cameco Corporation.

There will be no direct transfer of control involved with the transaction because Westinghouse will continue to be the licensee. There will also be no change in the management or technical personnel responsible for licensed activities. The current safety, security, and licensing organizations within Westinghouse will remain unchanged. Additionally, there are no planned changes in the operational organization, location, facilities, equipment, or procedures associated with the NRC licenses, and there will be no changes in Westinghouse operating procedures, emergency procedures, or decommissioning financial assurance. Because the licensee remains the same, there will be no physical transfer of any records concerning the safe and effective decommissioning of the facility, public dose, and waste disposal, and such records will remain with Westinghouse. No physical or operational changes affecting the Westinghouse sites and licensed activities were proposed in the Application.

Westinghouse requested the NRC's consent to the indirect transfer of control, pursuant to Section 184 of the Atomic Energy Act of 1954, as amended (the Act or AEA), and title 10 of the Code of Federal Regulations (10 CFR) section 70.36 and 110.50. A notice of receipt of the Application and opportunity to request a hearing and provide written comments was published in the Federal Register on February 16, 2023 (88 FR 10146). The NRC did not receive any comments or requests for a hearing in response to the notice.

Section 184 of the AEA provides that no NRC license shall be transferred, assigned, or in any manner disposed of, directly or indirectly, through transfer of control of any license to any person unless the Commission, after securing full information, finds that the transfer is in accordance with the provisions of the AEA, and gives its consent in writing. Pursuant to 10 CFR 70.36, no 10 CFR part 70 license shall be transferred, assigned, or in any manner disposed of, either voluntarily or involuntarily, directly or indirectly, unless the NRC, after securing full information, finds that the transfer is in accordance with the provisions of the Act, and gives its consent in writing. After review of the information in the Application, and relying on the representations and agreements contained in the Application, the NRC staff has determined that Watt is qualified to hold the ownership interests previously held by WEC Holdings, and that the transfer of ownership and operating interests to Watt, described in the Application, is otherwise consistent with applicable provisions of law and regulations. The NRC staff further finds that the requested transfer of control will not be inimical to the common defense and security or to the health and safety of the public. The findings set forth above are supported by the NRC's Safety Evaluation Report issued with this Order. These findings are subject to the conditions set forth below.

III

Accordingly, pursuant to Sections 161.b., 161.i., 183, and 184 of the Act; 42 U.S.C. 2201(b), 2201(i), 2233, and 2234; and 10 CFR 70.36, IT IS HEREBY ORDERED that the Application regarding the indirect transfer of control over licenses listed above from WEC Holdings to Watt, is approved, subject to the following conditions:

1. With respect to the licenses listed above, Westinghouse shall continue to abide by all commitments and representations it previously made. These include, but are not limited to, maintaining decommissioning records and financial assurance, conducting decontamination activities, and eventually decommissioning the site.

2. The commitments/representations made in the Application regarding reporting relationships and authority over safety and security matters as well compliance with NRC requirements, shall be adhered to and may not be modified without the prior written consent from the Director, Office of Nuclear Material Safety and Safeguards, or that person's designee.

It is further ordered that Westinghouse, at least one (1) business day before all actions necessary to accomplish the indirect transfer of control are completed, shall so inform the Director, Office of Nuclear Material Safety and Safeguards, in writing. Should the proposed indirect transfer not be completed within one year from the date of issuance of this Order, the Order shall become null and void; provided, however, upon timely written application and for good cause shown, such completion date may be extended by Order.

This Order is effective upon issuance.

For further details with respect to this Order, see the Application cited in section II above, and the Safety Evaluation Report supporting this action (ADAMS Accession Number ML23096A282), which are available for public inspection at the Commission's Public Document Room (PDR), located at One White Flint North, Public File Area 01-F21, 11555 Rockville Pike (first floor), Rockville, Maryland, and accessible, electronically, through the ADAMS Public Electronic Reading Room, on the internet, at the NRC website, http://www.nrc.gov/reading-rm/adams.html . Persons who do not have access to ADAMS, or who encounter problems in accessing the documents located in ADAMS, should contact the NRC PDR reference staff, by telephone, at 1-800-397-4209, 301-415-4737, or via email, to pdr@nrc.gov.

Dated and issued this 15th day of May, 2023.
For the Nuclear Regulatory Commission.
John W. Lubinski,
Director, Office of Nuclear Material Safety and Safeguards.

[FR Doc. 2023-10722 Filed 5-18-23; 8:45 am]

BILLING CODE 7590-01-P